DEPARTMENT OF STATE

[Public Notice 4940]

Finding of No Significant Impact and Summary Environmental Assessment—Tornillo-Guadalupe New International Bridge, County of El Paso, TX

The proposed action is to issue a Presidential Permit to the County of El Paso, Texas to construct, operate and maintain an international vehicular and pedestrian bridge (the proposed “Tornillo-Guadalupe New International Bridge”), its approaches and facilities at the international boundary between the United States and Mexico, southeast of the city of El Paso, Texas, approximately 1,950 feet upstream on the Rio Grande from the existing Fabens-Caseta Bridge, near the small community of Caseta that is within the municipality of Guadalupe in the State of Chihuahua, Mexico.

I. Background

The U.S. Department of State (“the Department”) is charged with the issuance of Presidential Permits for the construction of international bridges between the United States and Mexico under the International Bridge Act of 1972, 86 Stat. 731, 33 U.S.C. Section 535 et seq., and Executive Order 11423 of August 16, 1968, 33 FR 11741 (1968), as amended by Executive Order 12847 of May 17, 1993, 58 FR 29511 (1993), Executive Order 13284 of January 23, 2003, 68 FR 4075 (2003), and Executive Order 13337 of April 30, 2004, 69 FR 25299 (2004).

In 2001, Raba-Kistner Consultants, Inc. (RK) prepared, on behalf of the Presidential Permit applicant, the County of El Paso, Texas (the “Sponsor”), a draft Environmental Assessment of the proposed Tornillo-Guadalupe New International Bridge, port of entry, and connecting roadway. This Environmental Assessment was submitted to the Department as part of the Sponsor's application for a Presidential Permit. The Department placed a notice in the Federal Register regarding the receipt of the Sponsor's application for a Presidential permit and seeking public comments regarding the application (68 FR 43567 (2003). No public comments were received in response to this notice.

The Department has acted as the lead federal agency in the preparation and completion of the Environmental Assessment and has worked to address concerns or other issues that have been raised by cooperating governmental agencies. The Department, consistent with Council on Environmental Quality (CEQ) and Department of State regulations implementing the National Environmental Policy Act (“NEPA”), has conducted its own, independent review of the Environmental Assessment. Numerous Federal, State and local agencies have also independently reviewed the Environmental Assessment. Each such “cooperating agency” has approved or accepted the Environmental Assessment, with some recommending certain mitigation measures. These cooperating agencies are:

U.S. Government: The Department of Homeland Security, General Services Administration, United States Section of the International Boundary and Water Commission, Department of Transportation, Department of the Interior, Environmental Protection Agency, Food and Drug Administration, Department of Defense, Department of Commerce, Department of Justice, and the Council on Environmental Quality.

State of Texas: Commission on Environmental Quality, Office of the Attorney General, State Historical Commission, Department of Transportation, Department of Agriculture, Parks and Wildlife Department, and the Rio Grande Council of Governments.

The Sponsor has worked closely with the Federal and state agencies that have raised concerns to address those concerns about the possible environmental impacts of this project. The draft final Environmental Assessment, as amended and supplemented, together with the comments submitted by Federal and state agencies, the responses to these comments, and all correspondence between the agencies and the Sponsor addressing the agencies' concerns, constitute the “Final Environmental Assessment.” Based on this Final Environmental Assessment, including mitigation measures that El Paso County has undertaken or is prepared to undertake, and the Department's independent review of that assessment, the Department has concluded that the issuance of the Presidential Permit would not have a significant impact on the quality of the human environment within the United States. Therefore, a Finding of No Significant Impact (FONSI) is adopted and, in accordance with the National Environmental Policy Act, 42 U.S.C. 4321 et seq., CEQ regulations, 40 CFR 1501.4 and 1508.13, and Department of State regulations, 22 CFR 161.8(c), an environmental impact statement (“EIS”) will not be prepared.

II. Summary Environmental Assessment

A. The Proposed Project (Preferred Alternative)

The proposed Bridge Site is approximately 1,950 feet upstream of the existing Fabens-Caseta Bridge. The new bridge will be 1,274 feet long and 94 feet wide and will have six vehicular lanes and two pedestrian sidewalks. The County will obtain a 271.75-acre contiguous tract of land for the construction of all components of the border facilities. The proposed Bridge Site was selected as the preferred alternative because it represents the most effective use of financial resources in the United States and is the most consistent with the Mexican State of Chihuahua's planning and studies, including plans to build a new highway in Mexico that would begin at Samalayuca on the main Juarez-Chihuahua highway and end at a location approximately 600 meters west of the proposed location of the new bridge.

The proposed roadway is designed to originate at the Tornillo-Guadalupe New International Bridge and border facilities and to route passenger and commercial vehicular traffic north on a new major roadway to its terminus at the Interstate Highway-10 (I-10) and Texas Farm to Market 3380 (FM 3380) interchange. The anticipated length of the major collector is approximately 6.0 miles plus 1.5 miles, which are included for access roadways, side road connectors, and interchange realignments. These features will require approximately 260 acres of land to be acquired for right of way purposes. The width of the right of way is 200 feet, which is sufficient to accommodate the necessary roadway cross section plus all drainage and storm water retention facilities that may be necessary.

The first phase will be a 2-lane roadway with shoulders along both sides and a grade separation over the existing State Highway 20 (SH 20) and Union Pacific Railroad Company's (UPRR) tracks. The final cross section is to be a 4-lane roadway with shoulders and dedicated left-turn lanes at most intersections. Free-flow culverts or bridges will be required at crossings under the jurisdiction of the El Paso County Water Improvement District No. 1.

This roadway alternative was selected as the preferred alternative because it was the least intrusive and most cost-effective alignment. Five residential structures were identified within the proposed project's alignment. Two residential structures are located adjacent to the border facilities and three are near SH 20 and the UPRR tracks. Based on current design features, the structures are not expected to be affected and no relocations are planned.

B. Bridge Site Alternatives Considered

The Department in this case considered two alternative bridge sites and three alternative roadway alignments. The Department also considered a “no action” alternative. These are described in detail in the Final Environmental Assessment and in summary fashion as follows:

Bridge Site Alternative No. 1 is located approximately 4.6 miles upstream of the existing Fabens-Caseta Bridge. This alternative was viewed as not preferred because the site lacks direct access to Caseta, Mexico and would require extensive acquisition of agricultural and private underdeveloped lands for right-of-way in the Fabens area. The site also presents traffic safety hazards and would require construction of a new diamond interchange at IH-10, an ineffective use of financial resources.

Bridge Site Alternative No. 2 is 4.3 miles upstream of the existing bridge. While the roadway alignment for this bridge could use the existing diamond interchange at IH-10, the lack of direct access to the Interstate is a negative factor.

No Action Alternative. The Department considers the “no action” alternative for the roadway, described below, to constitute a “no action” alternative for the bridge as well. The “no action” alternative for the bridge was viewed as not preferred for the same reasons provided with regard to the “no action” alternative for the roadway.

C. Roadway Alternatives Considered

Roadway Alternative B was designed to originate at the Tornillo-Guadalupe New International Bridge and border facilities and direct passenger and commercial vehicular traffic west and north on the existing Texas Farm to Market 76 (FM 76) alignment to its intersection with Texas Highway 20 (SH 20) in Fabens, Texas. The alignment would continue north on Texas Farm to Market 793 (FM 793) through the Fabens business district to its intersection with Interstate Highway 10 (I-10).

The Roadway Alternative B alignment was eliminated early in the project, and was viewed as not preferred, because it was not considered to be a feasible and prudent option due to taking of additional acreage of potential prime or unique farmlands, relocation of families and splitting family/caregiver support groups, relocation and/or disruption of commercial businesses and trade, disruption of community services, relocation and disruption of places of religious worship or meetings, and general public opposition.

Roadway Alternative C was designed to originate at the Tornillo-Guadalupe New International Bridge and border facilities and divert vehicular traffic north on the proposed Preferred Alternate route to its intersection with Texas State Highway 20 (SH 20) west of the town of Tornillo, Texas. The alignment would traverse on an easterly route along SH 20 through Tornillo to its intersection with Texas Farm to Market 3380 (FM 3380) and thence north on FM 3380 to the diamond interchange at Interstate Highway 10 (I-10).

Roadway Alternative C was not selected as the preferred route due to the taking of additional acreage of potentially prime or unique farmlands, relocation of families and splitting family/caregiver support groups, relocation and/or disruption of commercial businesses and trade, disruption of community services, relocation and disruption of places of religious worship or meetings, and relocation of a public recreational area.

Roadway Alternative D was designed to originate at the Tornillo-Guadalupe New International Bridge and border facilities and divert vehicular traffic north on the proposed Preferred Alternate route to a point approximately 0.6 miles north of its intersection with State Highway 20 (SH 20) west of Tornillo, Texas. The alignment would traverse on a northerly route through the dune lands to its intersection with Interstate Highway 10 (I-10).

Roadway Alternative D was not selected as the preferred alternative because the alignment would require the construction of approximately 1.8 miles of roadway through the upland desert area. This would require the taking of 43.62 acres of land for right-of-way acquisition. The current land use is considered as idle. The project would require the construction of a diamond interchange at the roadway intersection with I-10. The new diamond interchange would be located approximately 1.95 miles northwest of the existing I-10 and FM 3380 diamond interchange. The short distance between diamond interchanges could create congestion in this portion of the I-10 corridor and traffic safety hazards. Additionally, the burden of cost related to the interchange at I-10 is not considered to be the most effective use of available financial resources.

Roadway Alternative E—No Action. If no action were taken, the long and short-term affects on natural and wildlife resources, other sensitive areas (with the potential exception of ground water resources), the environment, land uses, and human inconveniences would be minimal or negligible. Without the project, the potential for economic development and enhancement of lifestyles of the local inhabitants would be adversely affected in this federally designated economically distressed area. Potential for new commercial or industrial growth would be stagnant or nonexistent due to the lack of a modern border facility and a safer, more direct route to the major transportation corridors.

The No Action Alternative was viewed as not preferred because it would impede the benefits to the United States derived from trade expansion with Mexico, overtax the existing international crossings closer to the El Paso/Ciudad Juarez urban core, and leave in place the obsolete existing Fabens Bridge.

III. Summary of the Assessment of the Potential Environmental Impacts Resulting From the Proposed Action

The Environmental Assessment provides information on the environmental effects of the alternatives outlined above, including the proposed project. On the basis of the Final Environmental Assessment, the Department makes the following determinations regarding the potential environmental impacts of the preferred alternatives for the bridge site and the roadway alignment.

Ground Water and Runoff

Recharge of the Rio Grande Alluvium aquifer is through storm water runoff, seepage from the river and irrigation water returns. The transfer of groundwater between the Rio Grande and the aquifer is seasonal and dependent on the river's flow. During the spring and summer irrigation season, the aquifer gains at the expense of the river's flow and volume. The opposite occurs during the non-irrigation seasons of fall and winter. The project should not have any long-term effects on the inter-basin transfer of groundwater.

As noted, the County intends to acquire 271.75 acres for the border facilities and related activities. While the project will be developed and constructed in stages, ultimately it will cover about 171 acres of land with impervious surfaces. According to the initial storm water runoff retention basin design plan, about 29 acres of land will be used for retention basins. The ongoing design for the major arterial roadway also includes the use of retention ponds and vegetated swales. Based on the design of the retention ponds and related factors, storm water runoff should have only negligible effects on surface water bodies and shallow groundwater aquifers. Wherever practical, cover other than asphalt or concrete will be used to reduce water runoff. In order to mitigate runoff and erosion during the construction period, the County will instruct its consultants to employ best management practices for erosion control, such as the use of hay bales and silt fencing.

Siltation and Sedimentation of Waterways

Land erosion is expected to be minimal and will be controlled through implementation of a Storm Water Pollution Prevention Plan. It is expected that the construction phases of the project will take place during the dry season to minimize the erosional effects of rain. Where applicable, portions of the disturbed lands will be restored to their pre-construction contours and re-vegetated with plants and grasses native to the area.

Precautions To Avoid Injury To Cover Vegetation

There are four distinct vegetative zones in the project area, ranging from a small riparian area to the typical Chihuahuan Desert dunes. Precaution and avoidance measures should include limiting the disturbance of land areas and cover vegetation to those within the construction zone, including barrow pits, rights-of-way and entry and exit points for equipment and personnel. As appropriate, disturbed areas will be reclaimed in accordance with the permanent erosion control requirements of the storm water discharge permit.

Disruption of Wildlife Habitat

The proposed project is not expected to disrupt wildlife habitat. However, in view of the Migratory Bird Treaty Act and the population declines of many migratory bird species, good faith efforts will be implemented to minimize or avoid critical vegetative cover clearing and grubbing activities during migratory birds' general nesting season from March through August.

Wetlands and Floodplains

A review of the National Wetlands Inventory Maps for the project area and a site reconnaissance indicated no wetlands present or identified. Based on a review of Flood Insurance Rate Maps, it was determined that the bridge crossing will span Zone A, which is described as a special flood hazard area inundated by 100 year floods, and in which no base flood elevation has been established. The border facilities and a part of the access road are in Zone X, which is described as an area outside the 500-year floodplain.

Air Quality

The Texas Commission on Environmental Quality classifies El Paso County and region as a non-attainment area for critical air pollutants. Ozone and Carbon Monoxide are among the critical pollutants. Based on a 1996 annual emissions study, it was determined that 69 percent of the Ozone and Carbon Monoxide non-attainment annual emissions could be attributed to on-road mobile sources.

While studies since 1996 show that the El Paso region has managed to achieve substantial reductions in emissions, the long lines of northbound traffic at the three existing bridges exacerbate the non-attainment status in these areas. According to Texas Department of Transportation data, a vehicle emits 2.5 times as many pollutants while idling as compared to while traveling at 3 miles per hour.

In a Report to the County Commissioners Court prepared in 2001, the County Planning Department concluded that:

Currently, northbound vehicles on the bridge of the Americas, the Paso del Norte Bridge, and the Zaragoza (Ysleta) Bridge generate the following pollutants daily: 1,877 pounds of volatile organic compounds, 18,292 pounds of Carbon Monoxide, and 751 pounds of nitrous oxide. To arrive at an emission estimate, the number of vehicles crossing the bridge on a daily and annual basis were measured against the waiting time in the line, during rush and non-rush hour, the idling time spent on the bridge and the fuel used by the vehicle.

The proposed project will improve air quality in the urbanized areas of El Paso by alleviating vehicular congestion at the existing ports of entry. Both the Texas Commission on Environmental Quality and the U.S. Environmental Protection Agency reviewed the application, including the Environmental Assessment, in detail. Both concluded that emissions resulting from the proposed project are expected to be well below the 50 tons per year significant level for Volatile Organic Compounds and Nitrogen Oxides and that a general conformity analysis would not be required. Moreover, the U.S. Environmental Protection Agency determined that the proposed project is outside the non-attainment boundary for both PM 10 and CO; therefore, general conformity provisions are inapplicable for these two pollutants. During the construction phase, the County will instruct its consultants and contractors to employ best management practices, such as wetting aggregate to minimize dust.

Listed, Threatened and Endangered Species

The proposed new international bridge and associated roadway are not expected to disrupt wildlife habitat. The project design is not intended to limit or prohibit movements of species. An endangered species habitat assessment conducted in January 2002 concluded that, except for habitat for the Texas Horned Lizard and the Pecos River Muskrat, the project areas did not constitute sensitive habitat for threatened or endangered species or species of concern. There is very little potential for significant impacts. The sponsor will implement mitigating measures even in the absence of a potential for significant impacts. Mitigation efforts for the Pecos River Muskrat will include spans over the waterway so as not to cause a fill or redirection of the existing waterway habitat. A permitted biologist will be on call during the construction phase of the project in order to mitigate any potential impact on the Texas Horned Lizard.

In addition, the County will instruct its construction contractor that any burrow pits or staging areas be located in previously disturbed sites or sites with little or no vegetation and that these sites be reviewed for the potential occurrences of listed species and their habitats.

Hazardous Waste

The proposed project is not located on or near any known hazardous waste facilities and will not generate any hazardous wastes. The proposed border station will include a hazardous waste containment unit in the truck dock area that will provide temporary storage of hazardous waste if a spill occurs.

In the event of a release or spill outside the border station, assistance for containment and remediation efforts would fall under the jurisdiction of the El Paso County Sheriff's Office, whose Environmental Crimes Unit has special emergency procedures that have been made available by the U.S. Department of Transportation.

The use of herbicides or defoliating agents for this project is not expected. In the event such chemical agents are used, it will be done in strict accordance with the manufacturers' requirements and by persons qualified to conduct the applications.

Land Use

There are no public parks, recreational areas, wilderness areas, or unusual or unique areas within or near the vicinity of the proposed project. The project is not located near or in the vicinity of any designated wild and scenic river segments of the Rio Grande.

Part of the proposed project will be on farmlands. The crops cultivated include pecans, cotton, grain and alfalfa. The project will directly and indirectly impact approximately 516 acres of farmland.

The U.S. Department of Agriculture's Natural Resource Conservation Service concluded that the project area does not include any soil mapping units that are classified as prime farmland under the Farmland Protection Policy Act. After reviewing and evaluating the farmland at issue, the NRCS concluded that the project may proceed.

Noise

As with any major construction undertaking, some impacts will occur for which mitigation measures are not reasonable or feasible. One such impact identified during the course of this investigation is related to increased traffic noise. The traffic noise study conducted as part of the Environmental Assessment indicated that exterior noise levels at three houses exceeded existing levels by 8dBA and approached a Category B Noise Abatement Criteria level. The study investigated four typical and acceptable abatement measures and resulted in a finding that none was both feasible and reasonable, and no abatement measures were proposed for the project. Future avoidance measures of noise impacts are to include land use control programs to ensure that no new developments are planned or constructed along or within the predicted 2024 noise impact contours.

Noise abatement measures during the construction phase may include work hour controls and locations, ground support personnel locations and maintenance of vehicle muffler systems.

Cultural Resources

During the course of the archeological survey, four historical sites and one engineering property (Fabens-Caseta Bridge) were discovered. Two of the sites (Tornillo Sites 1 and 4) and the engineering property are eligible for inclusion in the National Register of Historic Places (NRHP) and/or formal designation as State Archeological Landmarks (SAL). One site (Tornillo 3) did not merit SAL designation and one site (Tornillo 2) will require additional studies to determine its significance and if it is necessary to avoid the site as a mitigation measure. The Texas Historical Commission determined that Tornillo Sites 1 and 4 were archeologically significant and recommends that they be avoided, if possible. Mitigation measures at these sites will be either avoidance or redesign of the roadway, or by excavation and curation of artifacts. Burial of the sites will not be an acceptable mitigation measure due to the shallow and fragile nature of the archeological deposits.

The existing Fabens-Caseta Bridge will be removed upon completion of the Tornillo-Guadalupe New International Bridge, Border Station Facilities and Major Arterial Roadway. The County has agreed to fund demolition of the U.S. part of the bridge. As recommended by the State Historical Preservation Officer (SHPO), the removal of this bridge will be in accordance with the requirements, directives, and plans issued by the Texas Historic Commission's Division of Architecture. In consultation with the SHPO, the IBWC has determined that the bridge is eligible for inclusion in the National Register of Historic Places. As a result, the County and IBWC have negotiated a memorandum of agreement, currently under review by both parties that, among other mitigation measures, will require the County to document the Fabens-Caseta Bridge to Level II, Historic American Buildings Survey (HABS) and Historic American Engineering Record (HAER) Standards, prior to beginning demolition.

The County expects to enter into a programmatic agreement relating to historical sites with the SHPO and appropriate federal coordinators.

Native American Tribes

Four federally recognized Native American groups were identified that may have historical ties to the area. The tribes are: (1) Fort Sill Apache Tribe of Oklahoma, (2) Mescalero Apache Tribe of the Mescalero Reservation of New Mexico, (3) White Mountain Apache Tribe of the Fort Apache Reservation, Arizona, and (4) the Ysleta Del Sur Pueblo of Texas. Each tribe was contacted and invited to consult on the project. The Mescalero Apache Tribe determined that the proposed action would not affect any objects, sites, or locations important to the Tribe. The White Mountain Apache Tribe replied that they deferred to the representatives of the Mescalero Apache Tribe and Fort Sill Apache Tribe. The Fort Sill Apache Tribe failed to respond to repeated telephone calls and letters. The Ysleta Del Sur Pueblo determined that consultation would be required and requested that they be consulted through each phase of the project.

Environmental Justice/Socio-Economic Issues

A potential impact for which direct mitigation measures may not be reasonable or feasible in all instances involves personal economic issues. The construction of the Tornillo-Guadalupe New International Bridge will result in a toll being charged to offset maintenance costs and repayment of revenue bonds. The County anticipates permanent closure and removal of the toll-free Fabens-Caseta Bridge upon completion of the new bridge and border facilities. The closure and removal of the toll-free bridge may result in economic impacts to regular users of the bridge. The County of El Paso recognizes this and, on April 19, 2004, the County Commissioners Court passed a resolution to the effect that the Tornillo-Guadalupe Port of Entry would be toll free for pedestrians. Private and commercial vehicles would pay tolls.

While the County of El Paso may not be able to fully mitigate all such impacts directly, the short and long term employment and economic opportunities resulting from implementing the project will greatly offset and lessen the effects of the impacts. The construction of the bridge, border station facilities, and roadway should provide short-term employment opportunities to local residents and a positive economic ripple affect to the surrounding area businesses. The long-term employment opportunities for the local residents of this economically distressed portion of El Paso County are promising. The County of El Paso anticipates implementing its economic development plan and tax abatement policies in conjunction with the Renewal Community Program. The creation of a 2,000-acre industrial park is one major feature of the County's economic development plan. The industrial park would be developed on the north side of the IH 10 transportation corridor, extending from Clint to the Fabens area. The long-range plans include planned affordable housing residential districts and commercial developments. The developments would bring infrastructure, such as water supply lines and sanitary sewer lines, to this region of the County. Overall, the project would improve the quality of life for the local and adjacent area residents.

The projected economic developments potentially are of great significance in a County where 30.9 percent of the population lives below the poverty threshold, compared to 18.5 percent for the State as a whole. The County's unemployment rate in October 2003 was 8.9 percent, while the national average at that time was 6.0 percent and Texas' rate was 6.1 percent.

Cumulative Impacts

The most significant cumulative impacts of the demolition of the Fabens-Caseta Bridge and the construction of the Tornillo-Guadalupe New International Bridge will be socio-economic.

The construction of the Tornillo-Guadalupe New International Bridge and related roads and infrastructure will have positive long- and short-term economic impacts. The estimated construction costs for the proposed new bridge, border facilities, and major arterial roadway are $46,544,000. Importation of a major labor force is not expected, thus allowing local residents the opportunity to gain employment, develop trade skills, and increase personal incomes.

On a long-term basis the construction of new bridges has generally resulted in significant regional increases in population, tourism, employment, and income. The County of El Paso anticipates implementing an economic development plan that includes industrial development areas, residential districts, and tax abatement policies. The development of a 2,000-acre industrial park is one major feature of the County's plan. The planned industrial park will be located on the north side of the Interstate Highway 10, extending from Clint, Texas to the Fabens, Texas area. Long-range plans include affordable housing residential districts, green spaces, and commercial developments. The employment opportunities will include skilled and semi-skilled construction labor, manufacturing jobs, and retail sales staff. Through tax incentives for businesses, the unskilled labor force will be afforded training opportunities resulting in additional job opportunities.

The Tornillo-Guadalupe New International Bridge will be in a low-income area. The traffic and financial feasibility study that is part of the Presidential Permit Application found that the toll revenues supporting the financial feasibility of the new bridge would come from automobile and truck traffic, with commercial vehicles generating 79 percent of the tolls. Pedestrian traffic will produce little or no net revenues. In order to accommodate the pedestrian crossers in this low-income area and promote social justice, the El Paso County Commissioners Court passed a resolution dated April 19, 2004 that eliminates pedestrian tolls on the new bridge. The resolution states: “Therefore Be It Resolved, by El Paso County Government that the new Tornillo/Guadalupe Port of Entry will be toll-free for pedestrians only, as expenditure of future funds to collect tolls from pedestrians at the new Tornillo/Guadalupe Bridge is expected to exceed pedestrian toll revenues to be collected.”

IV. Conclusion: Analysis of the Environmental Assessment Submitted by the Sponsor

Based on the Department's independent review of the Final Environmental Assessment, comments received during its preparation and comments received by the Department from Federal and State agencies including measures which are proposed to be taken to prevent or mitigate potentially adverse environmental impacts, the Department has concluded that issuance of a Presidential Permit authorizing construction of the proposed Tornillo-Guadalupe New International Bridge as proposed in Bridge Site Alternative No. 3 as set forth in the Environmental Assessment, would not have a significant impact on the quality of the human and/or natural environment within the United States. Accordingly, a Finding of No Significant Impact (“FONSI”) is adopted and an environmental impact statement will not be prepared.

The Final Environmental Assessment prepared by the Department addressing this action is on file and may be reviewed by interested parties at the Department of State, 2201 C Street NW., Room 4258, Washington, DC 20520 (Attn: Mr. John Ritchie, Tel (202) 647-8529).

Dated: December 15, 2004.
John A. Ritchie,
Coordinator, U.S.-Mexico Border Affairs, Office of Mexican Affairs, Department of State.

[FR Doc. 04-27988 Filed 12-21-04; 8:45 am]

BILLING CODE 4710-29-P